POSTAL SERVICE

Temporary Emergency Committee of the Board of Governors; Sunshine Act Meeting

Dates and Times: Tuesday, February 9, 2016, at 12:00 noon.

Place: via Teleconference.

Status: Closed.

Matters to be Considered:

Tuesday, February 9, 2016, at 12:00 Noon

1. Strategic Issues.

2. Financial Matters.

3. Pricing.

4. Personnel Matters and Compensation Issues.

5. Executive Session—Discussion of prior agenda items and Board governance.

General Counsel Certification: The General Counsel of the United States Postal Service has certified that the meeting may be closed under the Government in the Sunshine Act.

Contact Person for More Information: Requests for information about the meeting should be addressed to the Secretary of the Board, Julie S. Moore, at 202-268-4800.

Julie S. Moore,
Secretary, Board of Governors.

[FR Doc. 2016-01776 Filed 1-27-16; 4:15 pm]

BILLING CODE 7710-12-P